NATIONAL SCIENCE FOUNDATION

Special Emphasis Panel in Bioengineering and Environmental Systems; Notice of Meeting

In accordance with the Federal Advisory Committee Act (Pub. L. 92-463, as amended), the National Science Foundation announces the following meetings:

Name: Special Emphasis Panel in Bioengineering and Environmental Systems (1189).

Date/Time: May 3-4, 2001; 8 a.m.-5 p.m. and May 25, 2001 8 a.m.-5 p.m.

Place: National Science Foundation, 4201 Wilson Boulevard, Arlington, VA.

Type of Meeting: Closed.

Contact Person: Leon Esterowitz, Program Director, Biomedical Engineering and Research to Aid Persons with Disabilities, Division of Bioengineering and Environmental Systems, National Science Foundation, 4201 Wilson Boulevard, Arlington, VA 22230, Telephone: (703) 292-8320.

Purpose of Meeting: To provide advice and recommendations concerning proposals submitted to NSF for financial support.

Agenda: To review and evaluate unsolicited proposals and proposals received under the Major Research Instrumentation (MRI) Program Solicitation (Announcement Number NSF 01-7), and the Biophotonics Partnership Initiative II Program Solicitation (Announcement Number NSF 01-30), as part of the selection process for awards.

Reason for Closing: The proposals being reviewed include information of a proprietary or confidential nature, including technical information; financial data, such as salaries; and person information concerning individuals associated with the proposals. These matters are exempt under 5 U.S.C. 552b(c), (4) and (6) of the Government in the Sunshine Act.

Dated: March 20, 2001.
Susanne Bolton,
Committee Management Officer.

[FR Doc. 01-7300 Filed 3-22-01; 8:45 am]

BILLING CODE 7555-01-M